NUCLEAR REGULATORY COMMISSION

[Docket Nos. 50-361 and 50-362; License Nos. NPF-10 and NPF-15]

In the Matter of Southern California Edison Company the City of Anaheim, CA; San Onofre Nuclear Generating Station, Units 2 and 3; Order Approving Transfer of Licenses and Conforming Amendments

I.

Southern California Edison Company (SCE), San Diego Gas and Electric Company (SDG&E), the City of Riverside, California (Riverside), and the City of Anaheim, California (Anaheim), are the owners of San Onofre Nuclear Generating Station, Units 2 and 3 (SONGS 2 and 3), located in San Diego County, California. With respect to their ownership, they co-hold the Facility Operating Licenses Nos. NPF-10 and NPF-15, for SONGS 2 and 3. SCE is authorized to act as agent for the other co-owners and has exclusive responsibility and control under the licenses over the physical construction, operation, and maintenance of the facility.

II.

By application dated March 10, 2006, as supplemented May 16, 2006, SCE, acting on behalf of itself and Anaheim, requested pursuant to Title 10, Section 50.80 of the Code of Federal Regulations (10 CFR 50.80), that the Nuclear Regulatory Commission (NRC) consent to certain license transfers to permit the transfer of Anaheim's 3.16-percent undivided ownership interest in SONGS 2 and 3 to SCE, excluding Anaheim's interest in its spent fuel and in the SONGS 2 and 3 independent spent fuel storage installation (ISFSI). The initial application and the supplement are hereinafter referred to as “the application” unless otherwise indicated. SCE also requested, pursuant 10 CFR 50.90, approval of conforming license amendments to reflect the transfer. The conforming license amendments would address Anaheim's transfer of its above stated ownership interests in the facility. Anaheim will retain its ownership interests in its spent nuclear fuel and the facility's ISFSI located on the facility's site, and financial responsibility for its spent fuel and a portion of the facility's decommissioning costs. Anaheim proposes to remain a licensee for the purposes of its retained interests and liabilities.

Notice of consideration of approval of the transfer of the Facility Operating Licenses and conforming amendments and an opportunity for a hearing was published in the Federal Register on June 8, 2006 (71 FR 33321). No hearing requests or written comments were received.

Pursuant to 10 CFR 50.80, no license, or any right thereunder, shall be transferred, directly or indirectly, through transfer of control of the license, unless the Commission shall give its consent in writing. After reviewing the information in SCE's application and other information before the Commission, and relying upon the representations and agreements contained in the application, the NRC staff has determined that SCE is qualified to hold the licenses to the extent proposed to permit the transfer of Anaheim's 3.16-percent undivided ownership interest in SONGS 2 and 3 to SCE, excluding Anaheim's interest in its spent fuel and in the SONGS 2 and 3 ISFSI, as previously described herein, and that the transfer of the licenses is otherwise consistent with applicable provisions of law, regulations, and orders issued by the Commission pursuant thereto, subject to the conditions set forth below. The NRC staff has further found that the application for the proposed license amendments complies with the standards and requirements of the Atomic Energy Act (AEA) of 1954, as amended, and the Commission's rules and regulations set forth in 10 CFR Chapter I; the facility will operate in conformity with the application, the provisions of the Act, and the rules and regulations of the Commission; there is reasonable assurance that the activities authorized by the proposed license amendments can be conducted without endangering the health and safety of the public and that such activities will be conducted in compliance with the Commission's regulations; the issuance of the proposed license amendments will not be inimical to the common defense and security or the health and safety of the public; and the issuance of the proposed amendments will be in accordance with 10 CFR Part 51 of the Commission's regulations and all applicable requirements have been satisfied. The foregoing findings are supported by a safety evaluation dated September 27, 2006.

III.

Accordingly, pursuant to Sections 161b, 161i, and 184 of the AEA of 1954, as amended, 42 U.S.C. 2201(b), 2201(i), and 2234, and 10 CFR 50.80, It is hereby ordered that the transfer of the licenses to SCE, as described herein, is approved, subject to the following conditions:

After receipt of all required regulatory approvals of the transfer of Anaheim's 3.16-percent undivided ownership interest in SONGS 2 and 3 to SCE, excluding Anaheim's interest in its spent fuel and in the SONGS 2 and 3 ISFSI, as previously described herein, SCE shall inform the Director, Office of Nuclear Reactor Regulation, in writing of such receipt, within 5 business days, and of the date of the closing of the transfer no later than 7 business days before the date of closing. If the transfer is not completed by September 27, 2007, this Order shall become null and void, provided however, that upon written application and for good cause shown, such date may be extended in writing.

It is further ordered that consistent with 10 CFR 2.1315(b), license amendments that make changes, as indicated in Enclosure 2 to the cover letter forwarding this Order, to conform the licenses to reflect the subject license transfers are approved. The amendments shall be issued and made effective at the time the proposed transfers are completed.

This Order is effective upon issuance.

For further details with respect to this action, see the initial application dated March 10, 2006, the supplemental submittal dated May 16, 2006, and the safety evaluation dated September 27, 2006, which are available for public inspection at the Commission's Public Document Room (PDR), located at One White Flint North, 11555 Rockville Pike (first floor), Rockville, Maryland, and accessible electronically through the Agencywide Documents Access and Management System (ADAMS) Public Electronic Reading Room on the Internet on the NRC's Web site http://www.nrc.gov/reading-rm/adams.html. Persons who do not have access to ADAMS or who encounter problems in accessing the document located in ADAMS, should contact the Office of Nuclear Reactor Regulation PDR reference staff by telephone at 1-800-397-4209, 301-415-4737, or by e-mail to PDR@nrc.gov.

Dated at Rockville, Maryland, this 27th day of September 2006.
For the Nuclear Regulatory Commission.
J. E. Dyer,
Director, Office of Nuclear Reactor Regulation.

[FR Doc. E6-16446 Filed 10-4-06; 8:45 am]

BILLING CODE 7590-01-P